DEPARTMENT OF HEALTH AND HUMAN SERVICES

National Institutes of Health

National Institute of General Medical Sciences; Amended Notice of Meeting

Notice is hereby given of a change in the meeting of the National Institute of General Medical Sciences Special Emphasis Panel, March 28, 2008, 8 a.m. to March 28, 2008, 5 p.m., Hyatt Regency Bethesda, One Bethesda Metro Center, Bethesda, MD, 20814 which was published in the Federal Register on March 6, 2008, 73 FR 12184.

The meeting will be held on March 28, 2008 from 10 a.m. to 3 p.m. The meeting is closed to the public.

Dated: March 10, 2008.
Jennifer Spaeth,
Director, Office of Federal Advisory Committee Policy.

[FR Doc. E8-5218 Filed 3-17-08; 8:45 am]

BILLING CODE 4140-01-M